DEPARTMENT OF COMMERCE

Bureau of Industry and Security

Nikolay Goltsev, a/k/a Nick Stevens, a/k/a Gio Ross, 107 Rue Caron, Ste-Anne-De-Bellevue, Quebec, Canada H9X4A1; Salimdzhon Nasriddinov, 3734 Laurel Ave., Brooklyn, NY 11224; Kristina Puzyreva, 107 Rue Caron, Ste-Anne-De-Bellevue, Quebec, Canada H9X4A1; Vladimir Bochkarev, Privolnaya Street 75, Korp.1, Apt. 173, Moscow, Russia; Pavel Chernikov, Zoologicheskiy Pereulok 9/11. Apt. 13, Moscow, Russia 123242; Yekaterina Vetoshkina, Ulitsa Privolnaya 75/1, Apt. 173, Moscow, Russia, 109431; Oleg Zenchenko, Vesenniya Street 16, Taytsy, Petersburg Region, Russia and Kupchinskaya Street 29/1, Apt. 363, St. Petersburg, Russia 192283; SH Brothers Group, Inc., 3734 Laurel Ave., Brooklyn, NY 11224; SN Electronics, Inc., 2650 AB Coney Island Ave., Brooklyn, NY 11223; Suntronic F.Z.E., Shiekh Khalifa Bin Zayed, St-Amberjem Tower E1/913, Ajman, United Arab Emirates; Order Temporarily Denying Export Privileges

Pursuant to section 766.24 of the Export Administration Regulations (the “Regulations” or “EAR”),¹ the Bureau of Industry and Security (“BIS”), U.S. Department of Commerce, through its Office of Export Enforcement (“OEE”), has requested the issuance of an Order temporarily denying, for a period of 180 days, the export privileges under the Regulations of: Nikolay Goltsev, Salimdzhon Nasriddinov, Kristina Puzyreva, Vladimir Bochkarev, Pavel Chernikov, Yekaterina Vetoshkina, Oleg Zenchenko, SH Brothers Group, Inc. (“SH Brothers”), SN Electronics, Inc. (“SN Electronics”), and Suntronic FZE (“Suntronic”). OEE's request and related information indicates that these parties are located in New York, the Russian Federation and the United Arab Emirates (“U.A.E.”), at the respective addresses listed on the caption page of this order and on page 16, infra.

¹ The Regulations, currently codified at 15 CFR parts 730 through 774 (2023), originally issued pursuant to the Export Administration Act (50 U.S.C. 4601-4623 (Supp. III 2015) (“EAA”), which lapsed on August 21, 2001. The President, through Executive Order 13222 of August 17, 2001 (3 CFR, 2001 Comp. 783 (2002)), as extended by successive Presidential Notices, continued the Regulations in effect under the International Emergency Economic Powers Act (50 U.S.C. 1701, et seq. (2012)) (“IEEPA”). On August 13, 2018, the President signed into law the John S. McCain National Defense Authorization Act for Fiscal Year 2019, which includes the Export Control Reform Act of 2018, 50 U.S.C. 4801-4852 (“ECRA”). While section 1766 of ECRA repeals the provisions of the EAA (except for three sections which are inapplicable here), section 1768 of ECRA provides, in pertinent part, that all orders, rules, regulations, and other forms of administrative action that were made or issued under the EAA, including as continued in effect pursuant to IEEPA, and were in effect as of ECRA's date of enactment (August 13, 2018), shall continue in effect according to their terms until modified, superseded, set aside, or revoked through action undertaken pursuant to the authority provided under ECRA. Moreover, section 1761(a)(5) of ECRA authorizes the issuance of temporary denial orders.

I. Legal Standard

Pursuant to section 766.24, BIS may issue an order temporarily denying a respondent's export privileges upon a showing that the order is necessary in the public interest to prevent an “imminent violation” of the Regulations. 15 CFR 766.24(b)(1) and 766.24(d). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that the violation under investigation or charge “is significant, deliberate, covert and/or likely to occur again, rather than technical or negligent[.]” Id. A “[l]ack of information establishing the precise time a violation may occur does not preclude a finding that a violation is imminent, so long as there is sufficient reason to believe the likelihood of a violation.” Id.

II. OEE'S Request for a Temporary Denial Order

The U.S. Commerce Department, through BIS, responded to the Russian Federation's (“Russia's”) further invasion of Ukraine by implementing a sweeping series of stringent export controls that severely restrict Russia's access to technologies and other items that it needs to sustain its aggressive military capabilities. These controls primarily target Russia's defense, aerospace, and maritime sectors and are intended to cut off Russia's access to vital technological inputs, atrophy key sectors of its industrial base, and undercut Russia's strategic ambitions to exert influence on the world stage.

As of February 24, 2022, any item classified under any Export Classification Control Number (“ECCN”) in Categories 3 through 9 of the Commerce Control List (“CCL”) required a license to be exported or reexported to Russia. See 87 FR 12226 (Mar. 3, 2022). As of April 8, 2022, the license requirements for Russia were expanded to cover all items on the CCL. See 87 FR 22130 (Apr. 14, 2022). These rules were codified in 15 CFR 746.8, which state, “a license is required, excluding deemed exports and deemed reexports, to export, reexport, or transfer (in-country) to or within Russia or Belarus any item subject to the EAR and specified in any Export Control Classification Number (ECCN) on the CCL.”

BIS has imposed additional license requirements for exports, reexports and transfers to or within Russia of any items subject to the EAR that were identified under certain Schedule B or Harmonized Tariff Schedule 6 (“HTS”) numbers under Supplement No. 4 to Part 746—Russian and Belarusian Industry Sector Sanctions Pursuant to § 746.5(a)(1)(ii).² HTS codes take their first six digits from the corresponding Harmonized System (“HS”) code, a standardized numerical method of classifying traded products used by customs authorities around the world. On September 14, 2023, working in conjunction with the United Kingdom and European Union, BIS published a “Common High Priority Items List,” which identified items by their corresponding HTS codes listed in Supp. No. 4 to Part 746 that Russia sought to procure for its weapons programs.³

² See, e.g., 87 FR 12856 (March 8, 2022).

³ See https://www.bis.doc.gov/index.php/all-articles/13-policyguidance/country-guidance/2172-russia-export-controls-list-of-common-high-priority-items. Note that additional HTS codes were added to Supp. No. 4 to Part 746, including for items identified on the “Common High Priority Items List,” pursuant to several Federal Register notices. See 87 FR 57068 (Sep. 16, 2022); 88 FR 12175 (Feb. 27, 2023); and 88 FR 33922 (May 23, 2023).

On or about November 6, 2023, Goltsev, Nasriddinov, Puzyreva, Bochkarev, Chernikov, Vetoshkina, and Zenchenko (collectively “the co-conspirators”) were each indicted on multiple counts in the United States District Court for the Eastern District of New York. The charges include, but are not limited to, conspiring to violate U.S. export control laws in connection with the unlicensed export of items on the CCL and Supp. No. 4 to Part 746. The co-conspirators are also charged with smuggling, as well as failure to file and filing false Electronic Export Information (“EEI”).⁴

⁴ The co-conspirators are also charged with, inter alia, conspiracy to defraud the United States, wire fraud and wire fraud conspiracy, and money laundering conspiracy.

In its request, OEE has presented evidence indicating that, between at least on or about January 2022 and October 2023, Goltsev, Nasriddinov, Puzyreva, Bochkarev, Chernikov, Vetoshkina, and Zenchenko conspired to violate ECRA and the EAR by unlawfully sourcing and exporting millions of dollars in dual-use electronics from the United States for export to Russia without the required licenses. In instances where a particular item may not have required an export license, the co-conspirators also made, and caused to be made, false and misleading statements with respect to EEI filings in order to conceal the ultimate end destination and end user.

As alleged in the indictment, Goltsev and Nasriddinov sourced and purchased U.S.-origin electronics at the direction of Russian procurement agents, including Bochkarev, Chernikov, Vetoshkina, and Zenchenko. Goltsev, Nasriddinov, and Puzyreva utilized U.S.-registered companies, SH Brothers Group, Inc. and SN Electronics, Inc., both located in Brooklyn, NY, as part of the procurement scheme. Before ultimate diversion to Russia, some of these items were shipped to third-country transshipment companies, including Suntronic, a front company located in the United Arab Emirates and utilized by Bochkarev. Based on the facts alleged in the indictment, Goltsev, Nasriddinov, Puzyreva, Bochkarev, Chernikov, Vetoshkina, and Zenchenko were aware of U.S. export control laws and took affirmative action to conceal their unlawful export-related activities in order to deceive U.S. manufacturers and distributors, and to evade detection by law enforcement.

A. The Unlawful Procurement Scheme

As further alleged in the indictment, several of the co-conspirators worked to procure items on behalf of various Russian entities. For example, until in or about August 2022, Vetoshkina, a Russian national residing in Russia, served as a procurement manager for OOO ⁵ Radioavtomatika (“Radioavtomatika”), a Russian defense procurement firm based in Moscow. Radioavtomatika was added to the BIS Entity List on or about March 3, 2022.⁶ Vetoshkina then began working for OOO Komtech (“Komtech”), a Moscow-based electronics distributor.

⁵ “OOO” is the abbreviation for the Russian business entity type “общество с ограниченной ответственностью,” which means limited private company and is roughly the equivalent of a limited liability company or LLC in the United States.

⁶ See 87 FR 13141 (Mar. 9, 2022).

Chernikov, a Russian national residing in Russia, conducted procurement operations for OOO Testkomplekt (“Testkomplekt”), another Moscow-based electronics distributor that has held contracts with Russian military entities. Testkomplekt was added to OFAC's Specially Designated Nationals (“SDN”) list on or about May 19, 2023, pursuant to Executive Order 14024.⁷ Similarly, Zenchenko conducted procurement operations for OOO NEVA-EKB (“EKB-Neva”), a Moscow-based electronics supplier, which was added to OFAC's SDN list on or about May 19, 2023, pursuant to Executive Order 14024. Goltsev, a Russian national residing in Canada, also had long-standing relationships with Radioavtomatika, Testkomplekt, EKB-NEVA and other Russia-based entities, and had procured electronic components for them for years.

⁷ https://home.treasury.gov/news/press-releases/jy1494.

Based on evidence presented by OEE and as further stated in the indictment, Bochkarev, Chernikov, Vetoshkina, and Zenchenko received orders from Russian end users in the defense and technology sectors seeking to acquire U.S.-origin items. They then relayed these requests to Goltsev, who used aliases, including “Nick Stevens” and “Gio Ross,” to communicate with U.S. manufacturers and distributors. In these communications, Goltsev made material misrepresentations about the transactions, including about the ultimate end use and end users, as well as the parties involved in the transactions. Goltsev and Nasriddinov, a dual-national of Russia and Tajikistan residing in New York, purchased the items from U.S. companies. Nasriddinov received the items at various addresses in Brooklyn, New York and supervised their repackaging. To further the scheme, Puzyreva, Goltsev's spouse, utilized numerous bank accounts, including one that listed Nasriddinov's home address as the address of record.

After repackaging the items, Nasriddinov and Goltsev then exported the items from the United States for transshipment to Russia and Russian end users, including Radioavtomatika, Komtech, Testkomplekt, and EKB-NEVA. Using SH Brothers and SN Electronics, Nasriddinov and Goltsev shipped the items through various intermediaries located in third countries, including China, India, Turkey, and the United Arab Emirates. One such intermediary was Suntronic, located in the U.A.E. and used by Bochkarev to conduct multiple procurement operations for Russian entities.

As part of the scheme, Goltsev, Nasriddinov, Puzyreva, Bochkarev, Chernikov, Vetoshkina, and Zenchenko also made, and caused to be made, material misrepresentations and omissions, including with respect to EEI filings, to conceal the unlawful procurement transactions. As a result of their actions, the co-conspirators caused U.S. companies to, among other things, sell and export electronic components in violation of ECRA and the EAR.

Some of the items sourced and exported by Goltsev, Nasriddinov, Puzyreva, Bochkarev, Chernikov, Vetoshkina, and Zenchenko included electronic components and integrated circuits listed in Supp. No. 4 to Part 746 of the EAR and requiring a license to Russia, which have been designated as “Tier 1” items on the Common High Priority Items List. These priority items pose a heightened risk of being diverted illegally to Russia because of their importance to Russia's war efforts.

B. Knowledge of U.S. Export Controls and Intent To Evade

As further alleged in the indictment, communications between the co-conspirators indicate that they had knowledge of U.S. export controls and made efforts to conceal their unlawful procurement. For example, in or about October 2021, after Vetoshkina advised Goltsev that paperwork for an order of electronics stated that the items were destined for Russia, Goltsev advised her to use a Hong Kong-based company as the “bill-to” and confirmed that he would nonetheless ship the items to Radioavtomatika. In another communication to Goltsev in or about October 2022, Vetoshkina's employee listed several different electronic components, including coaxial switches and capacitors, that required a license to be shipped to Russia and stated, “please tell me do you have these goods, priceless in Russia.” Goltsev responded with price quotations for the items.

Based on facts alleged in the indictment, other communications between Goltsev and Russian procurement agents, including Chernikov, demonstrate a knowledge of export control laws and sanctions, as well as an intent to conceal. For example, in a December 2022 text message exchange with Chernikov regarding an order placed through SH Brothers, Goltsev requested “separate invoices. . .the ECCN[s] aren't very pretty. We'll ship them piecemeal.” In another communication in or about February 28, 2023, Goltsev mentions the sanctioning of Electronic Network, Inc. (“Electronic Network”), a company based in Montreal, Canada, which was added to the BIS Entity List on or about February 24, 2023.⁸ Goltsev said, “. . . do me a favor. If anyone ever asks about me, don't tell them who I am, where I am, etc. . . . Elnet's [Electronic Network] been in trouble for a long time because they exported a lot to Russia.” Goltsev was an account manager and purchasing coordinator for Electronic Network.

⁸ See 88 FR 12170 (Feb. 27, 2023).

Communications between Goltsev and Zenchenko also reflect knowledge of and familiarity with U.S. export controls. Specifically, Goltsev also received requests from Zenchenko to obtain items on the CCL that were controlled for anti-terrorism reasons. For example, on or about December 16, 2022, in response to a query, Zenchenko advised Goltsev that “76 pcs, you can buy them here with ECCN 3A991.c.3.” In a message on or about February 1, 2023, Zenchenko asked Goltsev, “ECCN: 5A991.b.4 can you get this?” and included a screenshot of a product from a Texas-based electronics distributor. Similarly, in a message on or about February 6, 2023, Zenchenko asked Goltsev, “can you get this ECCN? 4A994.” In a message on or about February 22, 2023, Zenchenko requested “40 pcs ECCN 5A991.b.1 Can you get this?” At the time of these communications, each of ECCNs listed in this paragraph required an export license to Russia and was subject to a presumption of denial licensing policy. See Section 746.8. Between November 2022 and February 2023, SH Brothers made nine shipments to Zenchenko in Russia through a Turkish intermediary.

C. SH Brothers, SN Electronics, and Suntronic

As alleged in the indictment and based on evidence presented by OEE, the co-conspirators used SH Brothers and SN Electronics to export items from the United States through intermediaries located in third countries. OEE has presented evidence that Nasriddinov founded SH Brothers on or about June 11, 2021 and SN Electronics, which was registered in his wife's name, on or about January 30, 2023. Both companies have listed addresses in Brooklyn, New York. One of intermediaries used for transshipment to Russia was Suntronic, a front company located in the U.A.E. and used by Bochkarev to conduct procurement operations for multiple Russian entities. As alleged in the indictment, on or about and between August 2022 and September 2023, SH Brothers exported more than 250 shipments of electronic components, valued at more than $7 million, to third-country transshipment companies, including Suntronic, where they were then unlawfully diverted to Russia.

The indictment further alleges that, between in or about November 2022 and August 2023, SH Brothers exported approximately 27 shipments, valued at approximately $1,086,058, to Suntronic. These shipments were then sent to Russian end users, including Petersburg Intelligent Transportation Logistics (“Petersburg”), which was added to OFAC's SDN list on or about May 19, 2023; Suntronic received approximately $15 million from Petersburg between in or about October 2022 and February 2023. As detailed in the indictment, one of the shipments, occurring in or about June 23, 2023, was for transceivers listed in Supp. No. 4 to Part 746 of the EAR and requiring a license to Russia, which carried a Tier 1 HTS code listed on the Common High Priority Items List. The transceivers, which have been found in Russian UAVs, required a license from BIS to be exported to Russia pursuant to section 746.5(a)(1) of the Regulations. These types of transceivers have been found in Russian unmanned aerial vehicles (“UAVs”) in Ukraine.

Based on the facts set forth in the indictment, Goltsev and Bochkarev communicated about the shipments, including ways in which to conceal the ultimate destination and end users. For example, in a communication in or about January 2023, Goltsev informed Bochkarev that he needed an end user declaration and Bochkarev responded, “darn.” The two ultimately agreed to falsely list a U.A.E. company as the end user. In a February 2023 communication, Goltsev advised Bochkarev to “write something more substantial [to the U.S. company] so that there are no more questions.” After Bochkarev asked, “is it better to provide them with a Chinese end user,” Goltsev stated “yes should be ok.” In another message on or about March 3, 2023, Bochkarev asked Goltsev about the possibility of making one shipment paid “via the Chinese company,” since “each one separately so expensive, or does it mean extra trouble at customs?” Goltsev responded, “no sir, more than 50-60 will trigger a lot of interest it's better to break it up.”

The indictment also alleges that between in or about September 2022 and November 2022, SH Brothers made approximately 15 shipments of electronic components, valued at approximately $352,000, to Testkomplekt through an intermediary located in Hong Kong. In or about November 2022, U.S. Customs and Border Protection (“CBP”) detained some shipments from SH Brothers that were allegedly bound for Hong Kong but ultimately destined for Testkomplekt in Russia. As detailed in the indictment, Chernikov repeatedly questioned Goltsev about the status of the detained shipments and provided him with false information to use in responding to CBP inquiries.

Based on the facts alleged in the indictment and evidence presented by OEE, SH Brothers also made a shipment of microchips to Vetoshkina's company, Komtech, through a Turkish intermediary. Specifically, in a message on or about August 31, 2022, Komtech's founder and director requested that Vetoshkina procure 3,000 microchips made by an Arizona-based manufacturer. Vetoshkina sourced the microchips through Goltsev and SH Brothers, who received several payments from the Turkish intermediary, including an October 3, 2022 payment for $5,300. The wire details for this payment listed the part number of the microchips and denoted “QTY 2000.”

In a message exchange on or about April 21, 2023, Vetoshkina and Goltsev discussed shipping the microchips through China or Turkey, ultimately deciding to make the shipment through Turkey to “avoid problems.” Goltsev provided Vetoshkina with an SH Brothers invoice for 3,000 pieces of the requested microchip, which listed the applicable HTS codes and payment information for an SH Brothers bank account in Brooklyn, New York. On or about April 17, 2023, a U.S. company shipped a package containing the microchips was mailed to SH Brothers and two days later, on or about April 25, 2023, Nasriddinov sent the same items to the intermediary in Turkey. OEE's evidence includes an invoice for 3,000 ATMEGA8A-MN Microchip Microcontrollers, and a second line item of 2,000 ATMEGA8A-MN Microchip Microcontrollers, bearing Tier 1 HTS code 8542310001, which is listed in Supp. No. 4 to Part 746 of the EAR and requires a license to Russia. The HTS code is listed on the Common High Priority Items List and the microchips would have required a license from BIS to be exported to Russia. See Section 746.5(a)(1)(ii).

Based on OEE's investigation, which remains ongoing, SH Brothers also furthered the scheme by making false EEI filings, including by declaring that items were being shipped to one party when they were, in fact, being shipped to another, presumably to further obfuscate the transactions with respect to the ultimate destination and to evade detection by law enforcement. For example, OEE has presented evidence that, an EEI filing made by SH Brothers in or about February 16, 2023 indicated that shipment was destined for China, with an intermediary consignee also located in China. Based on corresponding DHL records, however, the items were shipped to a different location in China not identified on the EEI. Records also reflect that the shipment contained items that would have required a license for export to Russia, specifically CY7C109D-10VXI Infineon SRAM Chips, bearing HTS code 8542320041 and classified under ECCN 3A991.b.2.b.

In another EEI filing made by SH Brothers on or about February 9, 2023, ostensibly to the U.A.E, SH Brothers identified the intermediary consignee as Suntronic. Corresponding DHL records, however, show that SH Brothers shipped the items to a company located in Hong Kong. The shipment contained a ADM3202ARNZ AD Transmitter, bearing HTS code 8542390001, a Tier 1 HTS code listed in Supp. No. 4 to Part 746 of the EAR, which would have required an export license for export to Russia pursuant to section 746.5(a)(1).

OEE's investigation also indicates that, in or about January 2023, in a further effort to evade detection and in response to law enforcement scrutiny, including the delay or detention of several outbound shipments from SH Brothers, Goltsev and Nasriddinov began using SN Electronics to order and export electronic components. As alleged in the indictment, on or about and between November 8, 2022 and November 15, 2022, Goltsev and Nasriddinov exchanged a series of messages discussing a shipment of electronic components that had been detained by U.S. officials at John F. Kennedy International Airport (“JFK”) in Queens, New York. Goltsev commented that shipping to Russia had become “dangerous” and went on to say, “we need to figure out why they keep holding the package . . . I don't really understand how they figured [it] out.” In a subsequent message, on or about November 9, 2022, Goltsev commented that, “in the future we will need to load from several companies, not to attract attention . . . for now large packages will be dangerous until we understand what they figured out . . . we will need to think of diversifying the load . . . so that not everything is moving from the same deck.”

In subsequent communications between on or about January 31, 2023 and February 10, 2023, Nasriddinov confirmed to Goltsev that the “new company is already functioning . . . Its called SN Electronics” and Goltsev responded, “Wonderful sir . . . Eagerly waiting for Tax ID sir. We had problems with some large orders from [a Texas-based company] . . . we will reorder later from SN.” Nasriddinov later provided Goltsev with SN Electronics' registered address in Brooklyn, New York, which was also the address of a restaurant that Nasriddinov owned.

As detailed in the indictment, Goltsev and Nasriddinov then used SN Electronics to obtain approximately $36,871.49 worth of non-reflective switches, listed in Supp. No. 4 to Part 746 of the EAR and requiring a license to Russia, from a U.S. company for Chernikov and Testkomplekt. Although Nasriddinov had initially placed the order for these non-reflective switches from the U.S. company through SH Brothers, the order was cancelled and the U.S. company told Goltsev that the “manufacturer requires that shipments of this product be direct to an END CUSTOMER from an AUTHORIZED DISTRIBUTOR only.”

Goltsev subsequently placed the same order through SN Electronics, using the alias “Gio Ross” in his email communications with the U.S. company and falsely claimed in an email on or about February 15, 2023 that SN Electronics was a “prototype and design manufacturing company.” On or about February 21, 2023, the order was shipped to an SN Electronics address in Brooklyn, New York and, on or about February 27, 2023, Nasriddinov exported the items to a Hong-Kong based transshipment company frequently utilized by Testkomplekt. The switches had Tier 1 HTS codes that were included on the Common High Priority Items List and required a license from BIS to be exported to Russia pursuant to section 746.5(a)(1).

III. Findings

I find that the evidence presented by BIS demonstrates that a violation of the Regulations by the above-captioned parties is imminent in both time and degree of likelihood. This includes evidence demonstrating the breadth of the conspiracy, that multiple parties and entities are involved, and that the conduct occurred over a lengthy period of time. As such, a TDO is needed to give notice to persons and companies in the United States and abroad that they should cease dealing with Nikolay Goltsev, Salimdzhon Nasriddinov, Kristina Puzyreva, Vladimir Bochkarev, Pavel Chernikov, Yekaterina Vetoshkina, Oleg Zenchenko, SH Brothers Group, Inc. (“SH Brothers”), SN Electronics, Inc. (“SN Electronics”), and Suntronic FZE (“Suntronic”) in export or reexport transactions involving items subject to the EAR. Such a TDO is consistent with the public interest to preclude future violations of the Regulations given the deliberate, covert, and determined nature of the misconduct and clear disregard for complying with U.S. export control laws.

This Order is being issued on an ex parte basis without a hearing based upon BIS's showing of an imminent violation in accordance with section 766.24 of the Regulations.

It is therefore ordered:

First, that NIKOLAY GOLTSEV, a/k/a NICK STEVENS, a/k/a GIO ROSS, with an address at 107 Rue Caron, Ste-Anne-De-Bellevue, Quebec, Canada H9X4A1; SALIMDZHON NASRIDDINOV, with an address at 3734 Laurel Ave., Brooklyn, NY 11224; KRISTINA PUZYREVA, with an address at 107 Rue Caron, Ste-Anne-De-Bellevue, Quebec, Canada H9X4A1; VLADIMIR BOCHKAREV, with an address at Privolnaya Street 75, Korp.1, Apt. 173, Moscow, Russia; PAVEL CHERNIKOV, with an address at Zoologicheskiy Pereulok 9/11. Apt.13, Moscow, Russia 123242; YEKATERINA VETOSHKINA, with an address at Ulitsa Privolnaya 75/1, Apt. 173, Moscow, Russia, 109431; OLEG ZENCHENKO, with an address at Vesenniya Street 16, Taytsy, Petersburg Region, Russia and an address at Kupchinskaya Street 29/1, Apt. 363, St. Petersburg, Russia 192283; SH BROTHERS GROUP, INC., with an address at 3734 Laurel Ave., Brooklyn, NY 11224; SN ELECTRONICS, INC., with an address at 2650 AB Coney Island Ave, Brooklyn, NY 11223; and SUNTRONIC FZE, with an address at Shiekh Khalifa Bin Zayed St-Amberjem Tower E1/913 Ajman, United Arab Emirates; and when acting for or on their behalf, any successors or assigns, agents, or employees (each a “Denied Person” and collectively the “Denied Persons”) may not, directly or indirectly, participate in any way in any transaction involving any commodity, software or technology (hereinafter collectively referred to as “item”) exported or to be exported from the United States that is subject to the EAR, or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of a Denied Person any item subject to the EAR;

B. Take any action that facilitates the acquisition or attempted acquisition by a Denied Person of the ownership, possession, or control of any item subject to the EAR that has been or will be exported from the United States, including financing or other support activities related to a transaction whereby a Denied Person acquires or attempts to acquire such ownership, possession or control;

C. Take any action to acquire from or to facilitate the acquisition or attempted acquisition from a Denied Person of any item subject to the EAR that has been exported from the United States;

D. Obtain from a Denied Person in the United States any item subject to the EAR with knowledge or reason to know that the item will be, or is intended to be, exported from the United States; or

E. Engage in any transaction to service any item subject to the EAR that has been or will be exported from the United States and which is owned, possessed or controlled by a Denied Person, or service any item, of whatever origin, that is owned, possessed or controlled by a Denied Person if such service involves the use of any item subject to the EAR that has been or will be exported from the United States. For purposes of this paragraph, servicing means installation, maintenance, repair, modification or testing.

Third, that, after notice and opportunity for comment as provided in section 766.23 of the EAR, any other person, firm, corporation, or business organization related to Nikolay Goltsev, Salimdzhon Nasriddinov, Kristina Puzyreva, Vladimir Bochkarev, Pavel Chernikov, Yekaterina Vetoshkina, Oleg Zenchenko, SH Brothers Group, Inc., SN Electronics, Inc., and Suntronic FZE by affiliation, ownership, control, or position of responsibility in the conduct of trade or related services may also be made subject to the provisions of this Order.

In accordance with the provisions of section 766.24(e) of the EAR, Nikolay Goltsev, Salimdzhon Nasriddinov, Kristina Puzyreva, Vladimir Bochkarev, Pavel Chernikov, Yekaterina Vetoshkina, Oleg Zenchenko, SH Brothers Group, Inc., SN Electronics, Inc., and Suntronic FZE may, at any time, appeal this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. Respondents Nikolay Goltsev, Salimdzhon Nasriddinov, Kristina Puzyreva, Vladimir Bochkarev, Pavel Chernikov, Yekaterina Vetoshkina, Oleg Zenchenko, SH Brothers Group, Inc., SN Electronics, Inc., and Suntronic FZE may oppose a request to renew this Order by filing a written submission with the Assistant Secretary for Export Enforcement, which must be received not later than seven days before the expiration date of the Order.

A copy of this Order shall be served on each denied person and shall be published in the Federal Register.

This Order is effective immediately and shall remain in effect for 180 days.

Matthew S. Axelrod,
Assistant Secretary of Commerce for Export Enforcement.

[FR Doc. 2023-25005 Filed 11-13-23; 8:45 am]

BILLING CODE 3510-DT-P